ENVIRONMENTAL PROTECTION AGENCY

[FRL-7484-5]

Toxicological Review of Benzene—Noncancer Effects

AGENCY: Environmental Protection Agency (EPA).

ACTION: Notice of availability.

SUMMARY: This notice announces the availability of the final document, Toxicological Review of Benzene—Noncancer Effects (EPA/635/R-02/001F), prepared by the Office of Research and Development's (ORD) National Center for Environmental Assessment (NCEA).

ADDRESSES: The document is available on NCEA's Web site at http://www.epa.gov/ncea under the What's New and Publications menus. A limited number of paper copies will be available from EPA's National Service Center for Environmental Publications (NSCEP), P.O. Box 42419, Cincinnati, OH 45242; telephone: 1-800-490-9198 or 513-489-8190; facsimile: 513-489-8695. Please provide your name and mailing address and the title and EPA number of the requested publication.

FOR FURTHER INFORMATION CONTACT: For further information, please contact David Bayliss, National Center for Environmental Assessment-Washington (8623D), U.S. Environmental Protection Agency, Washington, DC 20460; telephone: 202-564-3294; facsimile: 202-565-0078; e-mail: bayliss.david@epa.gov. For general information contact: Technical Information Staff, NCEA-W (8623D), U.S. Environmental Protection Agency, Washington, DC 20460; telephone: 202-564-3261; facsimile: 202-565-0050; e-mail: nceadc.comment@epa.gov.

SUPPLEMENTARY INFORMATION: The Toxicological Review of Benzene—Noncancer Effects characterizes the potential noncancer health hazards associated with environmental exposure to benzene. This toxicological review will serve as a scientific document for hazard identification and dose-response assessment in updating the noncancer health effects summary on benzene in the EPA's Integrated Risk Information System (IRIS).

The Toxicological Review concludes that chronic benzene exposure may pose several types of noncancer human health hazards. Hematotoxicity, e.g., progressive deterioration of hematopoietic function, has been consistently reported to be the most sensitive indicator of noncancer toxicity in both experimental animal studies and occupationally exposed humans. The hazards can result from inhalation, oral or dermal exposure, though the exposure circumstances vary. The Toxicological Review includes estimates of chronic exposure levels for oral exposure (reference dose) and inhalation exposure (reference concentration) that are thought to be without appreciable risk.

Earlier drafts of the assessment were subjected to independent expert peer review, as well as to public review and comment. The comments of the expert panel and the public are addressed in the revisions of the draft document.

Dated: April 10, 2003.
Peter W. Preuss,
Director, National Center for Environmental Assessment.

[FR Doc. 03-9341 Filed 4-15-03; 8:45 am]

BILLING CODE 6560-50-P